DEPARTMENT OF LABOR

Employment and Training Administration

[TA-W-91,325]

Essar Steel Minnesota LLC, a Wholly Owned Subsidiary of Essar Global Fund Limited Including On-Site Leased Workers From Express Employment Professionals, Always There Staffing, Vesterheim Geoscience PLC, and Rod Johnson & Associates, Hibbing, Minnesota; Notice of Affirmative Determination Regarding Application for Reconsideration

By application dated May 2, 2016, the state workforce office requested administrative reconsideration of the negative determination regarding workers' eligibility to apply for worker adjustment assistance applicable to workers and former workers of Essar Steel Minnesota LLC, a wholly owned subsidiary Essar Global Fund Limited, including on-site leased workers from Express Employment Professionals, Always There Staffing, Vesterheim Geoscience PLC, Rod Johnson & Associates, Hibbing, Minnesota. The determination was issued on April 8, 2016.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that that imports did not increase, and that the workers' firm does not import machining and construction services. Further, the firm did not shift the supply of machining and construction services or like or directly competitive services to a foreign country or acquire machining and construction services or like or directly competitive services from a foreign country. Further, the firm is not a Supplier to a firm that employed a group of workers who received a certification of eligibility under Section 222(a) of the Act, 19 U.S.C. 2272(a). The services supplied by the workers firm were not used in the production of an article, iron ore. Finally, the firm does not act as a Downstream Producer to a firm that employed a group of workers who received a certification of eligibility under Section 222(a) of the Act, 19 U.S.C. 2272(a).

The request for reconsideration asserts that this determination is erroneous and that the subject firm workers should be considered in production of mining. The request also included additional information relating to this statement.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 8th day of August, 2016.
Hope D. Kinglock,
Certifying Officer, Office of Trade Adjustment Assistance.

[FR Doc. 2016-23027 Filed 9-23-16; 8:45 am]

BILLING CODE P